DEPARTMENT OF DEFENSE

Department of the Army

Notice of Availability for Exclusive, Non-Exclusive, or Partially-Exclusive Licensing of an Invention Concerning a Computer Controlled System for Laser Energy Delivery to the Retina

AGENCY: Department of the Army, DoD.

ACTION: Notice.

SUMMARY: The invention provides a computer controlled system for laser energy delivery to the retina. Information is received from a user interface, wherein the information includes a duration, intensity, and/or wavelength of treatment. Announcement is made of the availability for licensing of the invention set forth in U.S. Patent Application Serial No. 13/130,380, entitled “Computer Controlled System for Laser Energy Delivery to the Retina,” filed on May 20, 2011. The United States Government, as represented by the Secretary of the Army, has rights to this invention.

ADDRESSES: Commander, U.S. Army Medical Research and Materiel Command, Attn: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to laser retina injury hazards in a variety of military settings. Incident reports abound from adversarial cockpit illumination to battlefield laser rangefinders and target designators as well as episodes of laser injury in government laboratories involved with high energy physics research or other scientific pursuits.

Brenda S. Bowen,
Army Federal Register Liaison Officer.

[FR Doc. 2012-3348 Filed 2-13-12; 8:45 am]

BILLING CODE 3710-08-P